NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by August 31, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-006

1. Applicant: Joseph Wilson, Penguin Films Ltd, 1 St Augustine's Lane, Bristol BS1 5DE United Kingdom.

Activity for Which Permit is Requested: ASPA entry. The applicant requests entry to Cape Crozier, ASPA 124, and Cape Royds, ASPA 121, in order to film an Adelie penguin documentary film for Disney. The applicant and team would use long lens filming techniques, which allows the camera person to be at a distance from the animals to capture natural behaviors. The work would be observational and would not involve interactions with penguins. The team would be working with penguin scientists who conduct work in Cape Crozier and Cape Royds.

Location: Cape Crozier, ASPA 124; Cape Royds, ASPA 121.

Dates: October 14, 2016-February 10, 2017.

Permit Application: 2017-010

2. Applicant: Brent S. Stewart, Ph.D., J.D., Hubbs-Seaworld Research Institute, 2595 Ingraham Street, San Diego, CA 92109.

Activity for Which Permit is Requested: Take. The applicant is planning to make photographs at terrestrial continental and island locations on the east and west sides of the Antarctic Peninsula, where seabirds roost and breed, to document and observe changes in the physical characteristics of those habitats and the distribution and abundance of seabirds that use them relative to local and regional changes in environmental conditions. The applicant states that brief, minor, incidental disturbance to behaviors of seabirds might be possible, though unlikely, owing to auditory or visual detection by the seabirds of a camera-equipped (e.g., GoPro) aerial telerobot as it passes quickly overhead while making photographs. The remotely operated, battery powered, multi-rotor model aerial telerobot (e.g., DJI Phantom 3 Pro) will be operated from a Zodiac offshore, or from locations on beaches. The aerial telerobot will be operated within line of sight distances (<400 m) and altitudes of 30 to 100 m and for 10 to 20 minutes during each flight. One flight will be made at each location visited and each location will be visited one to three times each year during the Austral summer (October to March). The applicant has applied for a permit to take the following species and numbers of birds: Less than 30 per year of gentoo penguin (Pygocelis papua), rockhopper penguin (Eudyptes crestatus), chinstrap penguin (Pygocelis antarctica), and Adelie penguin (Pygocelis adeliae); and less than 20 per year of brown skua (Catharacta lonnbergi), south polar skua (Catharacta mccormicki), sheathbill (Chionis alba), blue-eyed shag (Phalacrocorax atriceps), southern black-backed (kelp) gull (Larus dominicanus), and Antarctic tern (Sterna vittata).

Location: Aitcho Islands; Alcock Island; Ardley Island; Argentine Islands; Astrolabe Island; Baily Head, Deception Island; Barcroft Islands, Biscoe Islands; Bennett Islands, Hanusse Bay; Berthelot Islands; Blaiklock Islands; Bongrain Point, west side of Pourquoi Pas Island; Brown Bluff, Tabarin Peninsula; Camp Point, Eastern Marguerite Bay; Challenger Island, Gerlache Strait; Port Charcot, Booth Island; Christiania Islands; Comb Ridge, Northern James Ross Island; Cormorant Island; Crystal Hill, Prince Gustav Channel; Cuverville Island; Damoy Point, Wiencke Island; Danco Island; Danger Islands; Detaille Island; Devil Island; Cape Dubouzet; Cape Dundas, Eastern Laurie Island; Duthiers Point; Enterprise Island, Gerlache Strait; Cape Evensen; Fildes Peninsula; Fish Islands; Cape Gage, Eastern James Ross Island; Gaston Islands, Gerlache Strait; Georges Point, Nothern Ronge Island; Gin Cove, Western James Ross Island; Gosling Islands; Gourdin Island; Half Moon Island; Hannah Point; Heroina Island; Horseshoe Island; Hovgaard Island; Huemel Island; Jonassen Island; Cape Kinnes, Joinville Island; Cape Kjellman; Melchior Islands; Metchnikoff Point, Northern Brabant Island; Murray Island; Orne Islands; Palaver Point; Paulet Island; Pendulum Cove, Deception Island; Penguin Island; Penguin Point, Seymour Island; Petermann Island; Pitt islands; Pleneau Island; Portal Point; Prospect Point, Holtedahl Bay; Ronge Island; Rosamel Island; Rum Cove, James Ross Island; Seymour Island; Shingle Cove, Coronation Island; Skontorp, Cove, Paradise Harbor; Small Island; Snow Hill Island; Spring Point, Hughes Bay; Stonington Island; Torgersen Island, Anvers Island; View Point, Duse Bay, Trinity Peninsula; Whalers Bay, Deception Island; Yalour Islands, Penola Strait; Yankee Harbor, Greenwich Island.

Dates: October 1, 2016-September 30, 2021.

Nadene G. Kennedy,
Polar Coordination Specialist, Division of Polar Programs.

[FR Doc. 2016-18141 Filed 7-29-16; 8:45 am]

BILLING CODE 7555-01-P